DEPARTMENT OF COMMERCE

Foreign-Trade Zones Board

[Docket 4-2009]

Foreign-Trade Zone 271 Jo-Daviess and Carroll Counties, IL, Application for Subzone Status, Danisco U.S.A., Inc., Sweeteners Division, (Xylitol, Xylose and Mannose)

An application has been submitted to the Foreign-Trade Zones Board (the Board) by the Jo- Carroll Foreign Trade Zone Board, grantee of FTZ 271, requesting special-purpose subzone status for the xylitol, xylose, and mannose manufacturing plant of Danisco U.S.A., Inc., Sweeteners Division (Danisco), located in Thomson, Illinois. The application was submitted pursuant to the provisions of the Foreign-Trade Zones Act, as amended (19 U.S.C. 81a-81u), and the regulations of the Board (15 CFR part 400). It was formally filed on February 4, 2009.

The Danisco facility (80 employees/154 acres/120,000 sq.ft.) is located at 10994 Three Mile Road (Carroll County), Illinois. The plant is used to produce xylitol (nutritive sweetener), xylose (xylitol precursor) and mannose (dietary supplement) (annual production capacity: 12,000, 9,500 and 50 tons, respectively) for export and the domestic market. The manufacturing process involves filtration, separation, evaporation, hydrogenation and crystallization using domestic and foreign material inputs. Materials that would be purchased from abroad (representing about 20% of finished product value) include: xylose (crystalline, ML), l-arabinose, galactose, mannose, rhamnose, separation resins (i.e., processing aids), and clamping bands (duty rate range: free 5.8%).

FTZ procedures would exempt Danisco from customs duty payments on the foreign materials used in export production (about 50% of annual shipments). On domestic shipments, the company could be able to elect the duty rate that applies to finished xylitol and D-Mannose (duty free) for the foreign material inputs noted above. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is April 13, 2009. Rebuttal comments in response to material submitted during the foregoing period may be submitted during the subsequent 15-day period to April 27, 2009.

A copy of the application will be available for public inspection at the Office of the Foreign-Trade Zones Board's Executive Secretary at the address listed above and in the “Reading Room” section of the Board's website, which is accessible via www.trade.gov/ftz. For further information, contact Pierre Duy at: pierre_duy@ita.doc.gov, or (202) 482-1378.

Dated: February 4, 2009.
Andrew McGilvray,
Executive Secretary.

[FR Doc. E9-2933 Filed 2-10-09; 8:45 am]

BILLING CODE 3510-DS-S